SECURITIES AND EXCHANGE COMMISSION

Proposed Collection; Comment Request

Upon Written Request, Copies Available From: Securities and Exchange Commission, Office of Filings and Information Services, Washington, DC 20549.

Request for Approval:

Online Investor Behavior Survey; OMB Control No. 3235-new.

Notice is hereby given that, pursuant to the Paperwork Reduction Act of 1995 (44 U.S.C. 3501 et seq.), the Securities and Exchange Commission (“Commission”) is soliciting comments on the collection of information summarized below. The Commission plans to submit this collection of information to the Office of Management and Budget for approval.

Commissioner Laura S. Unger plans to conduct an online investor behavior survey. The survey would be voluntary in nature. It would be distributed to approximately 10,000 investors by brokerage firm members of the Securities Industry Association. Each respondent would spend approximately 15 minutes completing the survey for an estimated annual total burden of 2,500 hours. The survey would enable the Commission to learn more about the habits and education needs of online investors, and differences between online and paper-based investors. The survey would help the Commission determine how to improve its investor protection and education initiatives with respect to online investors.

Written comments are invited on: (a) whether the proposed collection of information is necessary for the proper performance of the functions of the agency, including whether the information will have practical utility; (b) the accuracy of the agency's estimate of the burden of the collection of information; (c) ways to enhance the quality, utility, and clarify of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 5th Street, NW., Washington, DC 20549.

Dated: June 13, 2000.
Margaret H. McFarland,
Deputy Secretary.

[FR Doc. 00-15441 Filed 6-19-00; 8:45 am]

BILLING CODE 8010-01-M